FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements 202-523-5793 or tradeanalysis@fmc.gov).

Agreement No.: 011722-003.

Title: New World Alliance/Maersk Sealand Slot Exchange Agreement.

Parties: A.P. Moller Maersk A/S; American President Lines, Ltd.; APL Co. PTE Ltd.; Mitsui O.S.K. Lines, Ltd., and Hyundai Merchant Marine Co., Ltd.

Filing Party: Wayne R. Rohde, Esquire; Sher & Blackwell LLP; 1850 M Street, NW., Suite 900, Washington, DC 20036.

Synopsis: The amendment would update the description of the Maersk vessel strings and add authority for Maersk to charter space to APL and to other members of the New World Alliance. The amendment would also make technical corrections to the agreement.

Agreement No.: 011870-007.

Title: Indian Subcontinent Discussion Agreement.

Parties: Emirates Shipping Line FZE; Shipping Corporation of India; United Arab Shipping Company (S.A.G.); and Zim Integrated Shipping Services, Ltd.

Filing Party: David F. Smith, Esq.; Sher & Blackwell LLP; 1850 M Street, NW., Suite 900, Washington, DC 20036.

Synopsis: The amendment removes CMA CGM S.A. and MacAndrews & Company Limited as parties to the agreement.

Agreement Nos.: 201132-010.

Title: New York/New Jersey-Port Newark Container Terminal LLC Lease (Lease No. L-PN-264).

Parties: The Port Authority of New York and New Jersey and Port Newark Container Terminal LLC.

Filing Party: Patricia W. Duemig, Senior Property Representative, The Port Authority of New York and New Jersey, New Jersey Marine Terminals, 260 Kellogg Street, Port Newark, NJ 07114.

Synopsis: The amendment extends the letting of PNCT's rail facility to December 31, 2007.

Dated: October 5, 2007.
By Order of the Federal Maritime Commission.
Bryant L. VanBrakle,
Secretary.

[FR Doc. E7-20066 Filed 10-10-07; 8:45 am]

BILLING CODE 6730-01-P